DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (U.S.C. § 552b, as amended) and 41 Code of the Federal Regulations (CFR 102-3. 140 through 160, the Department of the Army announces the following committee meeting:

Name of Committee: Army Science Board (ASB).

Date(s) of Meeting: Sept 15, 2009.

Time(s) of Meeting: 1230-1430.

Location: Institute for Defense Analysis, 4850 Mark Center Drive, Alexandria VA 22311.

Purpose: The purpose of this meeting is to adopt a subcommittee's finding and recommendations on survivability and deployability of ground platforms and hear opinions by the Army Science Board.

Proposed Agenda:

1230-1330 Survivability and Deployability Subcommittee Reports;

1330-1430 Discussion and Votes;

1430 Adjourn.

FOR FURTHER INFORMATION CONTACT: For information please contact Mr. Justin Bringhurst at justin.bringhurst@us.army.mil or (703) 604-7468 or Carolyn German at carolyn.t.german@us.army.mil or (703) 604-7490.

SUPPLEMENTARY INFORMATION: None.

Brenda S. Bowen,
Army Federal Register Liaison Officer.

[FR Doc. E9-20914 Filed 8-28-09; 8:45 am]

BILLING CODE 3710-08-P